NATIONAL SCIENCE FOUNDATION

Advisory Committee for Biological Sciences; Notice of Meeting

In accordance with the Federal Advisory Committee Act (Pub. L. 92-463, as amended), the National Science Foundation (NSF) announces the following meeting:

Name and Committee Code: Advisory Committee for Biological Sciences (#1110).

Date and Time: September 13, 2022, 10:00 a.m.-5:00 p.m. Eastern.

September 14, 2022, 10:00 a.m.-2:00 p.m. Eastern.

Place: NSF, 2415 Eisenhower Avenue, Alexandria, VA 22314 (Hybrid).

The meeting will be held in a hybrid format, with some Advisory Committee members participating in person and others participating virtually. For members of NSF and the external community, livestreaming links will be available through the following page: https://www.nsf.gov/events/event_summ.jsp?cntn_id=305642&org=NSF.

Type of Meeting: Open.

Contact Persons: Montona Futrell-Griggs, National Science Foundation, 2415 Eisenhower Avenue, Alexandria, VA 22314; Telephone: (703) 292-7162.

Summary of Minutes: Minutes will be available on the BIO Advisory Committee website at https://www.nsf.gov/bio/advisory.jsp or can be obtained from the contact person listed above.

Purpose of Meeting: The Advisory Committee for the Directorate for Biological Sciences (BIO) provides advice and recommendations concerning major program emphases, directions, and goals for the research-related activities of the divisions that make up BIO.

Agenda: Agenda items will include: a directorate business update; an overview of NSF's new Strategic Plan; discussion of BIO programming relevant to goals and objectives of the Strategic Plan; updates on reports from Committees of Visitors for the Divisions of Molecular and Cellular Biosciences and Integrative Organismal Systems; update from the Committee on Equal Opportunities in Science and Engineering; discussion with the NSF Director and Chief Operating Officer; and other directorate matters.

Date: August 10, 2022.
Crystal Robinson,
Committee Management Officer.

[FR Doc. 2022-17483 Filed 8-12-22; 8:45 am]

BILLING CODE P